DEPARTMENT OF COMMERCE

National Oceanic and Atmospheric Administration

RIN 0648-XC01

Fisheries of the Caribbean, Gulf of Mexico, and South Atlantic; Snapper-Grouper Fishery off the South Atlantic States; Amendment 16

AGENCY: National Marine Fisheries Service (NMFS), National Oceanic and Atmospheric Administration (NOAA), Commerce.

ACTION: Notice of intent (NOI) to prepare a draft environmental impact statement (DEIS); notice of scoping meetings; request for comments.

SUMMARY: The South Atlantic Fishery Management Council (Council) intends to prepare a DEIS to assess the impacts on the natural and human environment of the management measures proposed in its draft Amendment 16 to the Fishery Management Plan for the Snapper-Grouper Fishery of the South Atlantic Region (FMP).

DATES: Written comments on the scope of issues to be addressed in the DEIS will be accepted through September 14, 2007, at 5 p.m.

ADDRESSES: Comments should be sent to Jack McGovern, NMFS, Southeast Regional Office, 263 13th Avenue South, St. Petersburg, FL 33701; phone: 727-824-5305; fax: 727-824-5308; e-mail: John.McGovern@noaa.gov.

FOR FURTHER INFORMATION CONTACT: Kim Iverson, Public Information Officer, South Atlantic Fisheries Management Council, 4055 Faber Place Drive, Suite 201, North Charleston, SC 29405; phone: 843-571-4966, toll free 1-866-SAFMC-10; fax: 843-769-4520; e-mail: kim.iverson@safmc.net.

SUPPLEMENTARY INFORMATION: The snapper-grouper fishery off the South Atlantic region in the economic exclusive zone is managed under the FMP. Following Council preparation, the FMP was approved and implemented by NMFS under the authority of the Magnuson-Stevens Fishery Conservation and Management Act (Magnuson-Stevens Act) in March of 1983.

A stock assessment for gag and an update of a 2003 stock assessment for vermilion snapper were completed through the Southeast Data, Assessment, and Review (SEDAR) process in 2007. The stock assessments were reviewed by the Council's Scientific and Statistical Committee at their June 2007 meeting and were determined to be based on the best available science. The stock assessments have revealed both species are experiencing overfishing conditions and gag is approaching an overfished condition. Model projections show the gag stock becoming overfished in 2007. Furthermore, the vermilion snapper stock assessment update indicates recent management measures implemented in 2006 (1.1. million lb (499,000 kg) quota and increase in recreational size limit to 12 inches (30 cm) total length) are not adequate to end overfishing.

It is anticipated that the regulations designed to reduce fishing mortality developed in Amendment 16 will be in place by January 1, 2009. By reducing fishing mortality beginning in 2009, the Council intends to end overfishing of vermilion snapper and gag and allow biomass of gag to increase to a level produced when fishing at a rate that would produce the optimum yield. Thus, the potential adverse biological, economic, and social impacts associated with further decline of these stocks would be avoided with implementation of these management measures.

To prevent overfishing, the Magnuson-Stevens Act provides national standards that must be satisfied within the FMPs. The national standards require parameters, including maximum sustainable yield (MSY), optimum yield (OY), minimum stock size threshold (MSST), and maximum fishing mortality rate threshold (MFMT), which are used to avoid overfished and overfishing situations. Currently, static spawning potential ratio proxies are used to define MSY, OY, and MFMT. In Amendment 16, the Council intends to specify the required parameters for gag and vermilion snapper, based on results from recent SEDAR assessments.

This NOI is intended to inform the public of the preparation of a DEIS in support of an amendment to the snapper-grouper FMP. The DEIS will specify the required parameters for gag and vermilion snapper, consider alternatives to establish a shallow-water grouper unit to minimize bycatch of shallow-water grouper species, and consider alternatives to end overfishing of gag and vermilion snapper.

To end overfishing, the Council must reduce fishing mortality. The Council, at its September 2007 meeting, will consider various management measures that will end overfishing. Possible management measures the Council could consider include (but are not limited to): recreational and commercial catch limits; allocations; quotas; seasonal closures (both recreational and commercial); changes to recreational bag limits; and changes to size limits. Following publication of this NOI, the Council will conduct public scoping meetings to determine the range of issues to be addressed in the DEIS and the associated Amendment 16 at the following locations: (1) September 4, 2007, Hilton Wilmington Riverside, 301 North Water Street, Wilmington, NC 28401, phone: 910-763-5900; (2) September 4, 2007, Sombrero Cay Clubs, 19 Sombrero Boulevard, Marathon, FL 33050, phone: 305-743-2250; (3) September 5, 2007, Sheraton Atlantic Beach, 2717 West Fort Macon Road, Atlantic Beach, NC 28512, phone: 252-240-1155; (4) September 6, 2007, Hampton Inn Daytona Speedway, 1715 West International Speedway Boulevard, Daytona Beach, FL 32114, phone: 386-257-4030; (5) September 10, 2007, Holiday Inn Charleston Airport and Convention Center, 5624 International Boulevard, North Charleston, SC 29418, phone: 843-576-0300; and (6) September 17, 2007, Avista Resort, 300 North Ocean Boulevard, North Myrtle Beach, SC 29582, phone: 843-249-2521.

All scoping meetings will start at 6 p.m. The meetings will be physically accessible to people with disabilities. Requests for information packets and for sign language interpretation or other auxiliary aids should be directed to the South Atlantic Fisheries Management Council, 4055 Faber Place Drive, Suite 201, North Charleston, SC 29405; phone: 843-571-4966, toll free 1-866-SAFMC-10; fax: 843-769-4520. Requests may also be sent by e-mail to kim.iverson@safmc.net.

Following consideration of public comments, the Council plans to prepare the draft Snapper-Grouper Amendment 16/DEIS in November 2007. The Council and its Scientific and Statistical Committee will review the draft Snapper-Grouper Amendment 16/DEIS at the December 2007 Council meeting. If the Council approves the document, public review will take place beginning in January 2008. A comment period on the DEIS is planned, which will include public hearings to receive comments. Availability of the DEIS, the dates of the public comment period, and information about the public hearings will be announced in the Federal Register and in local news media.

Authority: 16 U.S.C. 1801 et seq.

Dated: August 10, 2007.
Emily Menashes,
Acting Director, Office of Sustainable Fisheries, National Marine Fisheries Service.

[FR Doc. E7-16010 Filed 8-14-07; 8:45 am]

BILLING CODE 3510-22-S